DEPARTMENT OF HEALTH AND HUMAN SERVICES

Health Resources and Services Administration

Advisory Committee on Heritable Disorders in Newborns and Children; Notice of Meeting

In accordance with section 10(a)(2) of the Federal Advisory Committee Act (Public Law 92-463), notice is hereby given of the following meeting:

Name: Secretary's Advisory Committee on Heritable Disorders in Newborns and Children (ACHDNC).

Dates and Times: September 24, 2009, 8:30 a.m. to 5 p.m. September 25, 2009, 8:30 a.m. to 3 p.m.

Place: Bethesda Marriott-Pooks Hill, 5151 Pooks Hill Road, Bethesda, MD 20814.

Status: The meeting will be open to the public with attendance limited to space availability. Participants are asked to register for the meeting by going to the registration web site at http://events.SignUp4.com/ACHDNC0909. The registration deadline is Wednesday, September 23, 2009. Individuals who need special assistance, such as sign language interpretation or other reasonable accommodations, should indicate their needs on the registration web site. The deadline for special accommodation requests is Friday, September 18, 2009. If there are technical problems gaining access to the web site, please contact Tamar R. Shealy, Meetings Manager, Conference and Meetings Management, Altarum Institute, by telephone (202) 828-5100 or via e-mail conferences@altarum.org.

Purpose: The Secretary's ACHDNC was established to advise and guide the Secretary regarding the most appropriate application of universal newborn screening tests, technologies, policies, guidelines and programs for effectively reducing morbidity and mortality in newborns and children having or at risk for heritable disorders. The ACHDNC also provides advice and recommendations concerning the grants and projects authorized under the Public Health Service Act, 42 U.S.C. 300b-10, (Heritable Disorders Program) as amended in the Newborn Screening Saves Lives Act of 2008.

Agenda: The meeting will include presentations and continued discussions on the nomination/evaluation process for newborn screening candidate conditions. The agenda will include presentations on the Newborn Screening Use Case, the National Health Information Network, and Newborn Screening Quality Measures, as well as presentations on the continued work and reports of the ACHDNC's subcommittees on laboratory standards and procedures, follow-up and treatment, and education and training.

Proposed agenda items are subject to change as priorities dictate. You can locate the Agenda, Committee Roster and Charter, presentations, and meeting materials at the home page of the Web site at http://events.SignUp4.com/ACHDNC0909.

Webcast: The meeting will be Webcast. Information on how to access the Webcast will be available on the day of the meeting by clicking on the meeting date link at http://events.SignUp4.com/ACHDNC0909.

Public Comments: Members of the public can present oral comments during the public comment periods of the meeting, which are scheduled for both days of the meeting. Those individuals who want to make a comment are requested to register online by Wednesday, September 23, 2009, at http://events.SignUp4.com/ACHDNC0909. Requests will contain the name, address, telephone number, and any professional or business affiliation of the person desiring to make an oral presentation. Groups having similar interests are requested to combine their comments and present them through a single representative. The list of public comment participants will be posted on the web site. Written comments should be emailed no later than Wednesday, September 23, 2009, for consideration. Comments should be submitted to Tamar R. Shealy, Meetings Manager, Conference and Meetings Management, Altarum Institute, 1200 18th Street, NW., Suite 700, Washington, DC 20036, telephone: 202 828-5100; fax: 202 785-3083, or e-mail: conferences@altarum.org.

Contact Person: Anyone interested in obtaining other relevant information should write or contact Alaina M. Harris, Maternal and Child Health Bureau, Health Resources and Services Administration, Room 18A-19, Parklawn Building, 5600 Fishers Lane, Rockville, Maryland 20857, Telephone (301) 443-0721, aharris@hrsa.gov. More information on the Advisory Committee is available at http://mchb.hrsa.gov/heritabledisorderscommittee.

Dated: July 28, 2009.
Alexandra Huttinger,
Director, Division of Policy Review and Coordination.

[FR Doc. E9-18526 Filed 8-3-09; 8:45 am]

BILLING CODE 4165-15-P